DEPARTMENT OF HOUSING AND URBAN DEVELOPMENT

[Docket No. FR-7077-N-25]

Privacy Act of 1974; System of Records

AGENCY: Office of Policy Development and Research, HUD.

ACTION: Notice of a rescindment of a systems of records.

SUMMARY: Pursuant to the provisions of the Privacy Act of 1974, the Department of the Housing and Urban Development (HUD), the Office of Policy Development and Research, is issuing a public notice of its intent to rescind the Counseling Options Data System (CODS) because the demonstration and evaluation contract of the data system has ended.

DATES: Comments will be accepted on or before December 20, 2023. This proposed action will be effective immediately upon publication.

ADDRESSES: You may submit comments, identified by one of the following methods:

Federal e-Rulemaking Portal: http://www.regulations.gov. Follow the instructions provided on that site to submit comments electronically.

Fax: 202-619-8365.

Email: privacy@hud.gov.

Mail: Attention: Privacy Office; LaDonne White, Chief Privacy Officer; The Executive Secretariat; 451 Seventh Street SW, Room 10139; Washington, DC 20410-0001.

Instructions: All submissions received must include the agency name and docket number for this rulemaking. All comments received will be posted without change to http://www.regulations.gov including any personal information provided.

Docket: For access to the docket to read background documents or comments received go to http://www.regulations.gov.

FOR FURTHER INFORMATION CONTACT: LaDonne White, Chief Privacy Officer, 451 Seventh Street SW, Room 10139; Washington, DC 20410; telephone number (202) 708-3054 (this is not a toll-free number). HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION: The Counseling Options Data System (CODS) is being terminated because the demonstration and data evaluation contract that the data system was supporting have ended. CODS was a contractor-owned and contract-operated system. The system was originally called the Random Assignment and Service Tracking (RAST) system, but the name changed to the Counseling Options Data System (CODS) during the process of obtaining an authorization to operate (ATO) at the FISMA moderate level. Abt Associates, the contractor, destroyed all record files in accordance with National Institute of Standards and Technology (NIST) Special Publications 800-88. Abt Associates transferred de-identified baseline, interim and long term follow up survey data and Federal Housing Administration (FHA) data on study participants that purchased homes with FHA loans to HUD on 9/27/2023. The de-identified data resides on PD&R's secure server and only contains the study participant's study ID, which has no personally identifiable information (PII).

SYSTEM NAME AND NUMBER:

Counseling Options Data system (CODS).

HISTORY:

Random Assignment and Service Tracking (RAST): 78 FR 2418 (January 11, 2013).

Ladonne White,
Chief Privacy Officer, Office of Administration.

[FR Doc. 2023-25511 Filed 11-17-23; 8:45 am]

BILLING CODE P